DEPARTMENT OF TRANSPORTATION

Office of the Secretary

Notice of Applications for Certificates of Public Convenience and Necessity and Foreign Air Carrier Permits Filed Under Subpart B (Formerly Subpart Q) During the Week Ending November 28, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0368.

Date Filed: November 25, 2008.

Due Date for Answers, Conforming Applications, or Motion to Modify Scope: December 16, 2008.

Description: Application of Ocean Sky (UK) Limited requesting an exemption and a foreign air carrier permit to conduct: (i) Foreign charter air transportation of persons, property and mail from any point or points behind any Member State and via intermediate points, to any point or points in the United States and beyond; (ii) foreign charter air transportation of persons, property and mail between any point or points in the United States and any point or points in any member of the European Common Aviation Area; (iii) foreign charter air transportation of cargo between any point or points in the United States and any other point or points; (iv) other charters pursuant to the prior approval requirements; and (v) charter transportation authorized by any additional route rights made available to European Community carriers in the future, to the extent permitted by the Applicant's homeland license on file with the Department.

Barbara J. Hairston,
Supervisory Dockets Officer, Alternate Federal Register Liaison.

[FR Doc. E9-14 Filed 1-6-09; 8:45 am]

BILLING CODE 4910-9X-P